FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 13, 2023.

A. Federal Reserve Bank of Atlanta (Erien O. Terry, Assistant Vice President) 1000 Peachtree Street NE, Atlanta, Georgia 30309. Comments can also be sent electronically to Applications.Comments@atl.frb.org.

1. Katie P. Cheramie-Daigle, Thibodaux, Louisiana, and Charles A. Crocket, Jr., Lafayette, Louisiana; to join the Cheramie Family Control Group, a group acting in concert, to acquire voting shares of SBT Bancshares, Inc., and thereby indirectly acquire voting shares of State Bank and Trust, both of Golden Meadow, Louisiana.

B. Federal Reserve Bank of Kansas City (Jeffrey Imgarten, Assistant Vice President) One Memorial Drive, Kansas City, Missouri, 64198-0001. Comments can also be sent electronically to KCapplicationcomments@kc.frb.org.

1. Park G.P., Inc., North Kansas City, Missouri, and David Leland Johnson and Sandra Lee Castetter, Kansas City, Missouri; to become members of the Johnson/Castetter Family Group, a group acting in concert, to retain voting shares of CCSB Financial Corp., and thereby indirectly retain voting shares of Clay County Savings Bank, both of Liberty, Missouri.

C. Federal Reserve Bank of Dallas (Karen Smith, Director, Mergers & Acquisitions) 2200 North Pearl Street, Dallas, Texas 75201-2272. Comments can also be sent electronically to Comments.applications@dal.frb.org.

1. Margaret Long, Christine Long, and Don Long, Jr., all of Montague, Texas; to form the Long Family Control Group, a group acting in concert, to retain voting shares of Sanger Bancshares, Inc., and thereby indirectly retain voting shares of Sanger Bank, both of Sanger, Texas.

Board of Governors of the Federal Reserve System.
Yao-Chin Chao,
Deputy Associate Secretary of the Board.

[FR Doc. 2023-26195 Filed 11-27-23; 8:45 am]

BILLING CODE P